DEPARTMENT OF HOMELAND SECURITY

Coast Guard

33 CFR Part 165

[Docket No. USCG-2024-0523]

Special Local Regulations; Annual Events Within the Captain of the Port Eastern Great Lakes Zone

AGENCY: Coast Guard, DHS.

ACTION: Notification of enforcement of regulation.

SUMMARY: The Coast Guard will enforce certain safety zones located in the federal regulations for Annual Events in the Captain of the Port Eastern Great Lakes Zone. This action is necessary and intended to protect the safety of life and property on navigable waters prior to, during, and immediately after these events. During each enforcement period, no person or vessel may enter the respective safety zone without the permission of the Captain of the Port Eastern Great Lakes or their designated representative.

DATES: The regulations in 33 CFR 165.939 as listed in Table 165.939 will be enforced for the safety zones identified in the SUPPLEMENTARY INFORMATION section for the dates and times specified.

FOR FURTHER INFORMATION CONTACT: If you have questions about this Notification of Enforcement, contact LT William Kelley, Chief of Waterways Management, Sector Eastern Great Lakes, U.S. Coast Guard; telephone 716-253-7299, email D09-SMB-SECBuffalo-WWM@uscg.mil.

SUPPLEMENTARY INFORMATION: The Coast Guard will enforce the following safety zones in 33 CFR 165.939 as listed in Table 165.939:

(1) Village Fireworks, Sodus Point, NY; The safety zone listed in (b)(22) will be enforced on all U.S. waters of Sodus Bay within a 560 foot radius of land position 43°16′33″ N, 076°58′27″ W in Sodus Point, NY from 9:45 p.m. through 10:45 p.m. on July 3, 2024.

(2) North Tonawanda Fireworks, North Tonawanda, NY; The safety zone listed in (b)(25) will be enforced on all U.S. waters of the East Niagara River within a 560 foot radius of land position 43°01′47.60″ N, 078°53′14.83″ W in North Tonawanda, NY from 8:45 p.m. through 11:15 p.m. on July 5, 2024.

(3) Tonawanda's Canal Fest Fireworks, Tonawanda, NY; The safety zone listed in (b)(26) will be enforced on all U.S. waters of the East Niagara River within a 175 foot radius of land position 43°01′17.8″ N, 078°52′40.9″ W in Tonawanda, NY from 9:15 p.m. through 10:15 p.m. on July 21, 2024.

This Notice of Enforcement is issued under authority of 33 CFR 165.939 and 5 U.S.C. 552 (a). Pursuant to 33 CFR 165.23, entry into, transiting, or anchoring within these safety zones during an enforcement period is prohibited unless authorized by the Captain of the Port Eastern Great Lakes or their designated representative; designation need not be in writing. Those seeking permission to enter these safety zones may request permission from the Captain of the Port Eastern Great Lakes via channel 16, VHF-FM. Vessels and persons granted permission to enter the safety zone shall obey the directions of the Captain of the Port Eastern Great Lakes or their designated representative. While within a safety zone, all vessels shall operate at the minimum speed necessary to maintain a safe course.

In addition to this Notice of Enforcement in the Federal Register, the Coast Guard will provide the maritime community with advance notification of the enforcement periods via Broadcast Notice to Mariners or other suitable means. If the Captain of the Port Eastern Great Lakes determines that the safety zone need not be enforced for the full duration stated in this notice, they may use a Broadcast Notice to Mariners to grant general permission to enter the respective safety zone. This notification is being issued by the Coast Guard Sector Eastern Great Lakes Prevention Department Head at the direction of the Captain of the Port.

Dated: June 14, 2024.
J.B. Bybee,
Commander, U.S. Coast Guard, Sector Eastern Great Lakes Prevention Department Head.

[FR Doc. 2024-13981 Filed 6-26-24; 8:45 am]

BILLING CODE 9110-04-P